DEPARTMENT OF DEFENSE

United States Army Corps of Engineers

Solicitation for Public Sector Nominations To Serve on the Committee on Levee Safety

AGENCY: United States Army Corps of Engineers, DoD.

ACTION: Solicitation of Nominations, Public Sector.

SUMMARY: The U.S. Army Corps of Engineers (USACE) is soliciting nominations from the private sector to serve on the Committee on Levee Safety. The Water Resources Development Act (WRDA) of 2007 requires formation of a sixteen member Committee on Levee Safety (Committee) charged with developing recommendations for a national levee safety program, including a strategic implementation plan. Two representatives of the private sector will be selected to serve on the Committee.

DATES: Submit nominations on or before August 18, 2008.

ADDRESSES: Nominations shall be submitted to: U.S. Army Corps of Engineers, Headquarters, Attention: Mr. Eric Halpin, Special Assistant for Levee and Dam Safety (CECW-CE), 441 G Street, NW., Washington, DC 20314.

FOR FURTHER INFORMATION CONTACT: Ms. Tammy Conforti, 202-761-4649.

SUPPLEMENTARY INFORMATION: On November 8, 2007, the Water Resources Development Act (WRDA) of 2007 was enacted into law. Title IX of this WRDA, cited as the National Levee Safety Act of 2007 (the Act), involves development of a strategic plan for a national levee safety program, in addition to, inventory and inspection of levees. The initial step will be formation of a sixteen member “Committee on Levee Safety,” (Committee) charged with developing recommendations for a national levee safety program, including a strategic implementation plan. Recommendations shall address the nine program goals named in the Act. Committee membership will include the Secretary of the Army, or the Secretary's designee as Chairperson; the Administrator of the Federal Emergency Management Agency (FEMA) or the Administrator's designee; eight representatives of state levee safety agencies; two representatives of the private sector; two representatives of local and regional governmental agencies; and two representatives of Indian tribes.

The purpose of this notice is to solicit nominations for the private sector representatives. A private sector representative is defined as a person who is not an employee of a Federal, state, local, regional government or Indian tribe, with experience in levee safety. Nominees not selected as a Committee member may be given the opportunity to be on the review team for the strategic implementation plan. Potential review team members will be contacted by Headquarters of the U.S. Army Corps of Engineers (HQUSACE) at a later time.

The expected time commitment for Committee members is two years, with no financial compensation, except for travel. Review team members will serve without compensation. It is estimated that most of the time commitment will be to develop the strategic implementation plan within the first six months. The remaining 18 months will consist mainly of responding to comments or expanding recommendations for implementation. Total labor time is estimated to be a 75% time commitment in the first year, including approximately 16 meetings, and a 15% time commitment in the second year, including quarterly meetings. The review team will provide independent review of the strategic implementation plan developed by the Committee in the first year.

Committee on Levee Safety: Criteria and Nomination Package

I. Definitions

A. Levee: The term “levee” is defined in the Act as “an embankment, including floodwalls” in which,

○ The primary purpose of which is to provide hurricane, storm, or flood damage reduction relating to seasonal high water, storm surges, precipitation and other weather events;

○ Normally is subject to water loading for only a few days or weeks during a year; and,

○ Does not constitute a barrier across a watercourse, such as a dam.

○ A Federal levee is defined as a system owned and operated by any Federal agency. A non-Federal levee is defined as a system operated and maintained by a non-Federal agency or entity.

B. Expertise in Levee Safety: Demonstrates experience in,

○ The design and construction of levees or;

○ The inspection of levees or;

○ The operation and maintenance of levees or;

○ The emergency response associated with levees or;

○ The management/analysis of the risk and consequences associated with levees or;

○ The repair and rehabilitation of levees or;

○ The planning and policy development for flood damage reduction projects.

II. Nomination Package

Each nomination package should be no more than 5 pages and include,

A. A resume showing the following:

○ Years of experience in specific technical areas and a description of that experience.

○ Breadth of responsibility in levee safety (description of the levee safety program the nominee has experience with including the number of miles of levees, population at risk, etc.).

○ Professional registrations and/or certifications.

○ Level of education.

○ Membership and activity in professional organizations.

○ Leadership and management experience.

○ Public communication experience.

○ Additional applicable experience.

B. A short description of the entity the person nominated is representing.

C. A written statement explaining why the person nominated should be selected.

D. Acknowledgement from the nominee that they will accept a two year commitment to serve on the Committee without compensation, other than for travel expenses and per diem.

III. Selection Criteria

Selections will be made based on professional expertise, technical background, and leadership and communication experience. Final Committee members will receive information on the first Committee meeting with their official selection letter. Nominees will be notified by September 30, 2008.

Dated: July 23, 2008.
Eric Halpin,
Special Assistant for Levee and Dam Safety.

[FR Doc. E8-17341 Filed 7-28-08; 8:45 am]

BILLING CODE 3710-92-P